DEPARTMENT OF JUSTICE

Notice of Lodging of Proposed Consent Decree Under the Clean Air Act

On May 3, 2023, the Department of Justice lodged a proposed Consent Decree with the United States District Court for the District of South Carolina, in the lawsuit entitled United States v. 3V Sigma USA, Inc., Civil Action No. 2:23-cv-01832-DCN.

The United States' complaint seeks injunctive relief and civil penalties for violations of the Clean Air Act's National Emission Standard for Hazardous Air Pollutants for Miscellaneous Organic Chemical Manufacturing by the defendant at its specialty chemical manufacturing plant in Georgetown, South Carolina. The Consent Decree requires the defendant to perform injunctive relief and pay a $731,250 civil penalty.

The publication of this notice opens a period for public comment on the Consent Decree. Comments should be addressed to the Assistant Attorney General, Environment and Natural Resources Division, and should refer to United States v. 3V Sigma USA, Inc., D.J. Ref. No. 90-5-2-1-12383. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be downloaded and examined from this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $22.50 (25 cents per page reproduction cost) payable to the United States Treasury. For a paper copy without the exhibits and signature pages, the cost is $13.

Lori Jonas,
Assistant Section Chief, Environmental Enforcement Section, Environment and Natural Resources Division.

[FR Doc. 2023-09773 Filed 5-8-23; 8:45 am]

BILLING CODE 4410-15-P